DEPARTMENT OF ENERGY

Federal Energy Regulatory Commission

[Docket Nos. EL03-118-000 and QF85-643-004]

Wilbur Power LLC; Notice of Application for Recertification as a Qualifying Cogeneration Facility, Request for Waiver of QF Operating and Efficiency Standards and Request for Expedited Treatment

April 17, 2003.

Take notice that on March 25, 2003, Wilbur Power LLC, filed with the Federal Energy Regulatory Commission (Commission) an Application for Recertification as a Qualifying Cogeneration Facility, Request for Waiver of QF Operating and Efficiency Standards, and Request for Expedited Treatment, pursuant to Sections 292.207(b) and 292.205(c) of the Commission's Regulations. No determination has been made that the submittal constitutes a complete filing.

Wilbur Power LLC, states that the facility is a 49 MW, natural gas fired, topping-cycle cogeneration facility (the Facility) located in Antioch, California, and the Facility is interconnected with the electric system of Pacific Gas and Electric Company and power from the Facility will be sold to Pacific Gas and Electric Company.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: April 24, 2003.

Magalie R. Salas,
Secretary.

[FR Doc. 03-9989 Filed 4-22-03; 8:45 am]

BILLING CODE 6717-01-P